DEPARTMENT OF THE TREASURY

United States Mint

Notification of United States Mint Silver Eagle Bullion Coin Premium Adjustment

ACTION: Notification of United States Mint Silver Eagle Bullion Coin Premium Adjustment.

SUMMARY: The United States Mint is adjusting the premium charged to Authorized Purchasers for American Eagle Silver Bullion Coins, which the agency mints and issues in accordance with 31 U.S.C. 5112(e).

Because of increases in the cost of acquiring silver blanks, the United States Mint will increase the premium charged to Authorized Purchasers for American Eagle Silver Bullion Coins, from $1.25 to $1.40 per coin, for all orders accepted on or after October 14, 2008.

FOR FURTHER INFORMATION CONTACT: Gloria C. Eskridge, Associate Director for Sales and Marketing; United States Mint; 801 Ninth Street, NW.; Washington, DC 20220; or call 202-354-7500.

Authority: 31 U.S.C. 5112(f)(1).

Dated: September 29, 2008.
Edmund C. Moy,
Director, United States Mint.

[FR Doc. E8-23477 Filed 10-2-08; 8:45 am]

BILLING CODE 4810-02-P